DEPARTMENT OF AGRICULTURE

Forest Service

Klamath National Forest, CA, Johnny O'Neil Late-Successional Reserve (LSR) Habitat Restoration and Fuel Reduction Project

AGENCY: Forest Service, USDA.

ACTION: Notice of intent to prepare an environmental impact statement.

SUMMARY: The Klamath National Forest will prepare an environmental impact statement (EIS) on a proposal to promote the development of late-successional habitat, retain existing large trees, and reduce the risk of large, high severity wildfires to move toward more ecologically resilient conditions on approximately 7,245 acres of the Johnny O'Neil LSR. This project is proposed under the authority of the Healthy Forest Restoration Act of 2003. The project is located in portions of the Johnny O'Neil LSR north of the Klamath River in the Lower Horse Creek, Middle/Horse Creek and Salt Gulch sub-watersheds of the McKiimey Horse watershed. These sub-watersheds include habitat for anadromous fish and streams are listed as 3 03(d) impaired under the Clean Water Act. The legal description of the proposed project area of the Mt. Diablo Base Meridian is: T41N, R11W, Sections 15, 22-27, and 34-36; T47N, R1OW, Sections 20 and 30; T46N, R11W, Sections 1-3 and 10-15; and T46N, R1OW, Sections 6 and 18.

DATES: The comment period on the proposed action will extend 30 days from the date the Notice of Intent is published in the Federal Register. The draft EIS is expected to be completed by September 2010, and the final EIS is expected to be completed by March 2011.

ADDRESSES: Send written comments to: Patricia A. Grantham, Forest Supervisor, Klamath National Forest, 1312 Fairlane Road, Yreka, California 96097, ATTN: Johnny O'Neil LSR Team Leader. Electronic comments, in acceptable plain text (.txt), rich text (.rtf), or Word (.doc) may be sent via e-mail to comments-pacificsouthwestklamath@fs.fed.us with Subject: Johnny O'Neil LSR Restoration, or via facsimile to 530-841-4571.

FOR FURTHER INFORMATION CONTACT: Tim Burnett, Happy Camp and Oak Knoll Ranger Districts, Klamath National Forest, Happy Camp, California 96039. Phone: 530-493-2243. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Johnny O'Neil LSR Habitat Restoration and Fuel Reduction Project is to move the project area toward more ecologically resilient conditions that can better support desirable late-successional attributes and habitat, and reduce the likelihood of large, damaging high-severity wildfires. This project is proposed under the direction of Section 7(a)(1) of the Endangered Species Act that directs federal agencies to carry out programs for the conservation of threatened and endangered species. The Forest Service is also directed to conduct habitat restoration and enhance protection from stand replacing wildfire by the Healthy Forest Restoration Act, the Northwest Forest Plan as incorporated in the Klamath National Forest Land and Resource Management Plan (LRMP) of 1995, and the National Fire Plan. The need for action in the project area primarily results from changes in fire regimes over the last century. Fire suppression over the last century, combined with past vegetation management in the Johnny O'Neil area, has resulted in a landscape dominated by denser, young and mid-successional forests that are lacking structural diversity. The Johnny O'Neil LSR is located in an area of high concentration of lightning strikes, but few fires have occurred in this LSR since the 1930s. Without the influence of fire to create and maintain stand diversity, many of the stands within the Johnny O'Neil LSR are unlikely to develop into functional late-successional habitat due to factors associated with inter-tree competition and lower resilience to mixed-severity fires. Approximately 76 percent of the Johnny O'Neil LSR currently is in early or mid-successional stages, and about 20 percent is in late-successional stages.

Proposed Action

Habitat Restoration

Restoration treatments include the combination of tree thinning and prescribed fire. All thinning will deliberatively vary spacing between trees (variable density thinning) to create more structurally diverse stands. Prescribed fire will mimic low-intensity wildfires. Insect outbreaks that can affect dense stands of trees are currently not an issue in this landscape; however, treatments proposed would reduce the potential of these occurring at large scales. The proposal is summarized as follows:

Thinning in Plantations

Approximately 1,100 acres of thinning are proposed within plantations of which approximately 700 acres would be thinned using mastication (cutting and shredding of small trees and shrubs). Some of these plantations are within riparian reserves. Plantations proposed for treatment were planted to Douglas-fir and/or ponderosa pine approximately 20 to 50 years ago. They are dense, even-aged, and single-story. Thinning would aim to increase growth and vigor of healthy trees, increase structural diversity and break up fuel continuity within these young stands.

Thinning in Unmanaged (Natural) Stands

About 1,000 acres in the project are unmanaged or minimally managed in terms of timber harvest. Some of these acres are within riparian reserves. Thinning would reduce competition between trees, thereby reducing stress on large old trees, increasing growth and vigor of mid-successional trees, and reducing or removing “ladder fuels”. The removal of trees greater than 20 inches in diameter at breast height (DBH) would occur only in limited instances for site-specific purposes; removal of these trees would be the exception rather than the rule.

Fuel Reduction Treatments

About 5,000 acres are proposed to be treated by underburning only, and about 1,400 acres by underburning combined with mechanical thinning. In addition, about 700 acres of mastication would occur, primarily near private property where prescribed fire is not considered appropriate. Prescribed fire would decrease surface and ladder fuels in strategic locations such as major ridges, within thinning units and within un-treated stands. Combined, these efforts would contribute to protecting the larger blocks of late-successional habitat and increasing the landscape's resilience to severe wildfires, and return fire to the ecological system. Fuel treatments will occur in some riparian reserves that need this treatment.

Harvest Methods, Yarding Methods, and Temporary Road Construction: “Harvesting” refers to tree-cutting methods. “Yarding” refers to tree removal methods once the trees have been cut. In stands that are to be yarded using cable systems, mechanical harvesters (also known as “feller-bunchers”) may operate on slopes less than 50%. Mechanical harvesters would only operate straight up and down fall lines with no mid-slope turning. In stands that are to be yarded using ground-based methods such as rubber-tired skidders, mechanical harvesters may operate on slopes less than 45%. In general, skidding would be limited to slopes less than 35%. On slopes greater than those stated above, trees would be hand-cut. About 870 acres of ground-based yarding and 440 acres of cable yarding have been identified. The majority of the project area includes existing roads that can be used to accomplish proposed activities. About two miles of temporary roads would be constructed. Some new landings may be required.

Responsible Official

Patricia A. Grantham, Forest Supervisor, Klamath National Forest, 1312 Fairlane Road, Yreka, CA 96097.

Nature of Decision To Be Made

The responsible official will decide whether to adopt and implement the proposed action, an alternative to the proposed action, or take no action to make changes to existing conditions in the Johnny O'Neil Late-Successional Reserve.

Scoping Process

Public participation will be especially important at several points during the analysis. The Forest Service will be seeking information, comments, and assistance from federal, state, and local agencies and other individuals or organizations who may be interested in or affected by the proposed action.

Members of the Johnny O'Neil Team have been meeting informally with interested individuals, adjacent landowners and residents, and organizations to discuss the need for treatment of the Johnny O'Neil LSR and various possible ways to treat the area.

The draft EIS is expected to be filed with the Environmental Protection Agency (EPA) and to be available for public review by November 2010. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Klamath National Forest participate at that time.

The final EIS is scheduled to be completed in March 2011. In the final EIS, the Forest Service will respond to comments received during the comment period that are: Within the scope of the proposed action; specific to the proposed action; have a direct relationship with the proposed action; and include supporting reasons for the responsible official to consider. Submission of comments to the draft EIS is a prerequisite for eligibility to participate in the pre-decisional objection process under the 36 CFR part 218 regulations.

Comment Requested

This Notice of Intent initiates the scoping process which guides the development of the environmental impact statement.

Early Notice of Importance of Public Participation in Subsequent Environmental Review: A draft EIS will be prepared for comment. The comment period on the draft EIS will be 45 days from the date the EPA publishes the notice of availability in the Federal Register.

At this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519. 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: December 18, 2009.
Patricia A. Grantham,
Forest Supervisor.

[FR Doc. E9-31052 Filed 12-30-09; 8:45 am]

BILLING CODE 3410-11-M